DEPARTMENT OF DEFENSE

Department of the Navy

[Docket ID USN-2011-0007]

Privacy Act of 1974; System of Records

AGENCY: U.S. Marine Corps, DoD.

ACTION: Notice to Alter a System of Records.

SUMMARY: The U.S. Marine Corps proposes to alter an existing system of records in its inventory of record systems subject to the Privacy Act of 1974, (5 U.S.C. 552a), as amended.

DATES: This proposed action will be effective without further notice on June 20, 2011 unless comments are received which result in a contrary determination.

ADDRESSES: You may submit comments, identified by docket number and/Regulatory Information Number (RIN) and title, by any of the following methods:

• Federal Rulemaking Portal: http://www.regulations.gov Follow the instructions for submitting comments.

• Mail: Federal Docket Management System Office, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Mr. LaDonne White, Headquarters, U.S. Marine Corps, FOIA/PA Section (ARSF), 2 Navy Annex, Room 3134, Washington, DC 20380-1775, or call (703) 614-4008.

SUPPLEMENTARY INFORMATION: The U.S. Marine Corps system of records notices subject to the Privacy Act of 1974, (5 U.S.C. 552a), as amended, have been published in the Federal Register and are available from the FOR FURTHER INFORMATION CONTACT address.

The proposed system report, as required by 5 U.S.C. 552a (r), of the Privacy Act of 1974, as amended, was submitted on May 13, 2011, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: May 15, 2011.
Aaron Siegel,
Alternate OSD Federal Register Liaison Officer, Department of Defense.

M01754-5

Changes:

* * * * *

System location:

Delete entry and replace with “Primary location: The Marine Corps Community Services (MCCS) contractor secured site—3n Global, Incorporated, 505 N. Brand Boulevard, Suite 700, Glendale, CA 91203-3946.

Secondary locations:

Commandant of the Marine Corps, Headquarters, U.S. Marine Corps, Marine Corps Community Services, 3280 Russell Road, MCB Quantico, VA 22134-5009.

Marine Corps Community Services (MCCS) offices located at Marine Corps installations. Official MCCS offices mailing addresses are published on the MCCS Web site or may be obtained from the system manger.

eMarine Website Hosting: DefenseWeb Technologies, Inc., 10182 Telesis Court, FL5, San Diego, CA 92121-4777.”

Categories of individuals covered by the system:

Delete entry and replace with “Active Duty and Reserve military officer and enlisted personnel assigned to Marine Corps units/activities and their dependents.”

Categories of records in the system:

Delete entry and replace with “Names, home addresses, work addresses, contact telephone numbers, contact email addresses, relationship information, date of birth (month day (MMDD)), and the last four digits of the military members' Social Security Number (SSN).”

* * * * *

Retrievability:

Delete entry and replace with “Name, date of birth, and last four digits of the military member's SSN or the name and relationship for individuals other than military members.”

Safeguards:

Delete entry and replace with “Mass Communication Tool (MCT)—Password controlled system, file, and element access based on predefined need-to-know basis. Computer facilities and terminals are located in restricted areas accessible only to authorized persons that are properly screened, cleared and trained. Manual records and computer printouts are available only to authorized personnel having a need-to-know. Data is encrypted while at rest and during transmission.

Physical access to terminals, terminal rooms, buildings and activities' grounds are controlled by locked terminals and rooms, guards, personnel screening, or visitor registers.

eMarine Family Readiness (FR) Web site—The eMarine system is a protected network that will employ data encryption, data masking, secure virtual private network (VPN) and DoD approved methods for safeguarding and ensuring compliance. The network or system will be locked down with user IDs and passwords.”

Retention and disposal:

Delete entry and replace with “Disposition pending (until the National Archives and Records Administration approves retention and disposal schedule, records will be treated as permanent).”

* * * * *

M01754-5

System name:

Marine Corps Family Readiness Mass Communication Records.

System location:

Primary location:

The Marine Corps Community Services (MCCS) contractor secured site—3n Global, Incorporated, 505 N. Brand Boulevard, Suite 700, Glendale, CA 91203-3946.

Secondary locations:

Commandant of the Marine Corps, Headquarters, U.S. Marine Corps, Marine Corps Community Services, 3280 Russell Road, MCB Quantico, VA 22134-5009.

Marine Corps Community Services (MCCS) offices located at Marine Corps installations. Official MCCS offices mailing addresses are published on the MCCS Web site or may be obtained from the system manger.

eMarine Web site Hosting: DefenseWeb Technologies, Inc., 10182 Telesis Court, FL5, San Diego, CA 92121-4777.

Categories of individuals covered by the system:

Active Duty and Reserve military officer and enlisted personnel assigned to Marine Corps units/activities and their dependents.

Categories of records in the system:

Names, home addresses, work addresses, contact telephone numbers, contact email addresses, relationship information, date of birth (month day (MMDD)), and the last four digits of the military members' Social Security Number (SSN).

Authority for maintenance of the system:

10 U.S.C. 5013; Secretary of the Navy; 10 U.S.C. 5041, Headquarters, Marine Corps: function; composition; Marine Corps Order (MCO) 1754.6A, Marine Corps Family Team Building (MCFTB); and NAVMC Directive 1754.6A, Marine Corps Family Team Building (MCFTB); and E.O. 9397 (SSN), as amended.

Purpose(s):

To effect clear and direct communication between Marine Corps family readiness officers and military members, their family members, and other individuals designated by the military member, in order to ensure family preparedness and readiness before, during, and after a military member's deployment and related absence from the family. NOTE THAT THESE TOOLS WILL NOT BE USED TO COMMUNICATE CASUALTY NOTIFICATION OR ASSISTANCE INFORMATION.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD `Blanket Routine Uses' that appear at the beginning of the Navy's compilation of systems of records notices apply to this system.

Policies and practices for storing, retrieving, accessing, retaining, and disposing of records in the system:

Storage:

Paper records and electronic storage media.

Retrievability:

Name, date of birth, and last four digits of the military member's SSN or the name and relationship for individuals other than military members.

Safeguards:

Mass Communication Tool (MCT)—Password controlled system, file, and element access based on predefined need-to-know basis. Computer facilities and terminals are located in restricted areas accessible only to authorized persons that are properly screened, cleared and trained. Manual records and computer printouts are available only to authorized personnel having a need-to-know. Data is encrypted while at rest and during transmission.

Physical access to terminals, terminal rooms, buildings and activities' grounds are controlled by locked terminals and rooms, guards, personnel screening, or visitor registers.

eMarine Family Readiness (FR) Web site—The eMarine system is a protected network that will employ data encryption, data masking, secure virtual private network (VPN) and DoD approved methods for safeguarding and ensuring compliance. The network or system will be locked down with user IDs and passwords.

Retention and disposal:

Disposition pending (until the National Archives and Records Administration approves retention and disposal schedule, records will be treated as permanent).

System manager(s) and address:

Policy Manager: Commandant of the Marine Corps, Headquarters, U.S. Marine Corps, Marine Corps Community Services, 3280 Russell Road, Marine Corps Base Quantico, VA 22134-5009.

Secondary Managers: Directors of Marine Corps Community Services (MCCS) offices. Official mailing addresses are published on the MCCS web site or may be obtained from the system manger.

Notification procedure:

Individuals seeking to determine whether information about themselves is contained in this system should address written inquiries to the MCCS office servicing the activity where the Marine is currently stationed. Official mailing addresses are published on the MCCS Web site or may be obtained from the system manger.

The written inquiry should include the individual's full name, the last four of their Social Security Number (SSN), and written signature.

Record access procedure:

Individuals seeking to access information about themselves contained in this system should address written inquiries to the MCCS office servicing the activity where the Marine is currently stationed. Official mailing addresses are published on the MCCS Web site or may be obtained from the system manger.

The written inquiry should include the individual's full name the last four of their Social Security Number (SSN), and written signature.

Contesting record procedures:

The Navy's rules for accessing records, and for contesting contents and appealing initial agency determinations are published in Secretary of the Navy Instruction 5211.5; 32 CFR part 701; or may be obtained from the system manager.

Record source categories:

Military personnel, record files, and/or the Marine Corps Total Force System database.

Exemptions claimed for the system:

None.

[FR Doc. 2011-12314 Filed 5-18-11; 8:45 am]

BILLING CODE 5001-06-P